SURFACE TRANSPORTATION BOARD

[Docket No. AB 290 (Sub-No. 410X)]

Norfolk Southern Railway Company—Discontinuance of Trackage Rights Exemption—in Luzerne and Carbon Counties, Pa.

Norfolk Southern Railway Company (NSR) has filed a verified notice of exemption under 49 CFR part 1152 subpart F—Exempt Abandonments and Discontinuances of Service to discontinue overhead trackage rights operations over approximately 56.7 miles of rail line owned by Reading Blue Mountain and Northern Railroad Company (RBMN) located between milepost 119.3 in Lehighton Yard and milepost 175.5 in Dupont, Pa., in Luzerne and Carbon Counties, Pa. (the Line).¹ The Line traverses U.S. Postal Service Zip Codes 18235, 18229, 18255, 18661, 18711, 18707, 18706, 18640, and 18641.

¹ NSR states that it acquired overhead trackage rights for the Line in 2002. See Norfolk S. Ry.—Trackage Rts. Exemption—Reading Blue Mountain & N.R.R., FD 34225 (STB served July 25, 2002).

NSR has certified that: (1) It has moved no local traffic over the Line for at least two years; (2) any common carrier overhead traffic can be rerouted; (3) no formal complaint filed by a user of rail service on the Line (or by a state or local government entity acting on behalf of such user) regarding cessation of service on the Line is either pending with the Surface Transportation Board (Board) or with any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ² to subsidize continued rail service has been received, this exemption will be effective on September 19, 2021, unless stayed pending reconsideration. Petitions to stay that do not involve environmental issues and formal expressions of intent to file an OFA to subsidize continued rail service under 49 CFR 1152.27(c)(2) ³ must be filed by August 30, 2021.⁴ Petitions to reopen must be filed by September 9, 2021.

² Persons interested in submitting an OFA to subsidize continued rail service must first file a formal expression of intent to file an offer, indicating the intent to file an OFA for subsidy and demonstrating that they are preliminarily financially responsible. See 49 CFR 1152.27(c)(2)(i).

³ The filing fee for OFAs can be found at 49 CFR 1002.2(f)(25).

⁴ Because this is a discontinuance proceeding and not an abandonment, interim trail use/rail banking and public use conditions are not appropriate. Because there will be an environmental review during abandonment, this discontinuance does not require an environmental review.

All pleadings, referring to Docket No. AB 290 (Sub-No. 410X), should be filed with the Surface Transportation Board via e-filing on the Board's website. In addition, a copy of each pleading filed with the Board should be sent to NSR's representative, Crystal M. Zorbaugh, Baker & Miller PLLC, 2401 Pennsylvania Ave. NW, Suite 300, Washington, DC 20037.

If the verified notice contains false or misleading information, the exemption is void ab initio.

Board decisions and notices are available at www.stb.gov.

Decided: August 17, 2021.
By the Board, Scott M. Zimmerman, Acting Director, Office of Proceedings.
Kenyatta Clay,
Clearance Clerk.

[FR Doc. 2021-17859 Filed 8-19-21; 8:45 am]

BILLING CODE 4915-01-P